DEPARTMENT OF HEALTH AND HUMAN SERVICES

Centers for Medicare & Medicaid Services

Privacy Act of 1974; Matching Program

AGENCY: Centers for Medicare & Medicaid Services (CMS), Department of Health and Human Services (HHS).

ACTION: Notice of new matching program.

SUMMARY: In accordance with the Privacy Act of 1974, as amended, the Department of Health and Human Services (HHS), Centers for Medicare & Medicaid Services (CMS) is providing notice of a new matching program between CMS and the Department of Defense, Defense Manpower Data Center for “The Verification of Eligibility for Minimum Essential Coverage Under the Patient Protection and Affordable Care Act through a Department of Defense Health Benefits Plan.”

DATES: The deadline for comments on this notice is April 26, 2021. The re-established matching program will commence not sooner than 30 days after publication of this notice, provided no comments are received that warrant a change to this notice. The matching program will be conducted for an initial term of 18 months (from approximately May 30, 2021 to November 29, 2022) and within 3 months of expiration may be renewed for one additional year if the parties make no change to the matching program and certify that the program has been conducted in compliance with the matching agreement.

ADDRESSES: Interested parties may submit comments as follows:

1. Electronically. You may send your comments electronically to http://www.regulations.gov. Follow the instructions for “Comment or Submission” or “More Search Options” to find the information collection document(s) that are accepting comments.

2. By Regular Mail. You may mail written comments to the following address: Centers for Medicare & Medicaid Services, Division of Security, Privacy Policy & Governance, Information Security & Privacy Group, Office of Information Technology, Location: N1-14-56, 7500 Security Blvd., Baltimore, MD 21244-1850.

FOR FURTHER INFORMATION CONTACT: If you have questions about the matching program, you may contact Anne Pesto, Senior Advisor, Marketplace Eligibility and Enrollment Group, Center for Consumer Information and Insurance Oversight, Centers for Medicare & Medicaid Services, at 410-786-3492, by email at anne.pesto@cms.hhs.gov, or by mail at 7500 Security Blvd., Baltimore, MD 21244.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o)(2)(A)(i), (r), and (u)(3)(D).

5. Publish advance notice of the matching program in the Federal Register as required by 5 U.S.C. 552a(e)(12).

This matching program meets these requirements.

Barbara Demopulos,
Privacy Advisor, Division of Security, Privacy Policy and Governance, Office of Information Technology, Centers for Medicare & Medicaid Services.

Participating Agencies

The Department of Health and Human Services (HHS), Centers for Medicare & Medicaid Services (CMS) is the recipient agency, and the Department of Defense (DoD), Defense Manpower Data Center (DMDC) is the source agency.

Authority for Conducting the Matching Program

The statutory authority for the matching program is 42 U.S.C. 18081 and 42 U.S.C. 18083.

Purpose(s)

The purpose of the matching program is to provide CMS with DoD data verifying individuals' eligibility for coverage under a DoD health benefits plan (i.e., TRICARE), when requested by CMS and state-based administering entities (AE) for the purpose of determining the individuals' eligibility for insurance affordability programs under the Patient Protection and Affordable Care Act (PPACA). CMS and the requesting AE will use the DoD data to determine whether an enrollee in private health coverage under a qualified health plan through a federally-facilitated or state-based health insurance exchange is eligible for coverage under TRICARE, and the dates the individual was eligible for TRICARE coverage. DoD health benefit plans provide minimum essential coverage (MEC), and eligibility for such plans precludes eligibility for financial assistance in paying for private coverage. CMS and AE will use the DoD data to authenticate identity, determine eligibility for financial assistance (including an advance tax credit and cost-sharing reduction, which are types of insurance affordability programs), and determine the amount of any financial assistance.

Categories of Individuals

The categories of individuals whose information is involved in the matching program are active duty service members and their family members and retirees and their family members whose TRICARE eligibility records at DoD match data provided to DoD by CMS (submitted by AEs) about individual consumers who are applying for or are enrolled in private health insurance coverage under a qualified health plan through a federally-facilitated or state-based health insurance exchange.

Categories of Records

The categories of records used in the matching program are identity records and minimum essential coverage (MEC) period records. To request information from DoD, CMS will submit a request to DoD that may contain, but is not limited to, the following specified data elements in a fixed record format: Last name, middle name, first name, date of birth, gender, Social Security Number (SSN), requested Qualified Health Plan (QHP) coverage effective date and end date, and transaction ID. When DoD is able to match the SSN and name provided by CMS and information is available, DoD will provide CMS with the following about each individual, as relevant: SSN, response code indicating enrollment in MEC under a TRICARE plan, and, as applicable, end date of enrollment in MEC under a TRICARE plan.

A. System of Records Maintained by CMS

CMS Health Insurance Exchanges System (HIX), CMS System No. 09-70-0560, last published in full at 78 FR 63211 (Oct. 23, 2013), as amended at 83 FR 6591 (Feb. 14, 2018). Routine use 3 authorizes CMS' disclosures of identifying information about applicants to DoD for use in this matching program.

B. System of Records Maintained by DoD

The DoD system of records and routine use that support this matching program are Routine Use h in DMDC 02 DoD, Defense Enrollment Eligibility Reporting Systems (DEERS), published at 84 FR 55293 (Oct. 16, 2019) and corrected at 84 FR 65975 (Dec. 2, 2019).

[FR Doc. 2021-06313 Filed 3-25-21; 8:45 am]

BILLING CODE 4120-03-P